DEPARTMENT OF HEALTH AND HUMAN SERVICES

Administration for Children and Families

[OMB #0970-0463]

Submission for OMB Review; Comprehensive Child Welfare Information System (CCWIS)

AGENCY: Children's Bureau; Administration for Children and Families; HHS.

ACTION: Request for public comment.

SUMMARY: The Administration for Children and Families (ACF) is requesting a revision of the CCWIS information collection authorized by the CCWIS Final Rule (81 FR 35450-35482). The Automated Function List and the Data Quality Plan are revised to be annual submissions of updates with no change to the burden hours per year. Initial submission of the Automated Function List, the Data Quality Plan, and the Notice of Intent have been removed, as we do not expect to receive more than the Paperwork Reduction Act (PRA) threshold in a single year. There are no required instruments associated with this data collection.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The CCWIS information collection includes two components:

• The Automated Function List update required pursuant to § 1355.52(i)(2);

• The Data Quality Plan update required pursuant to § 1355.52(d)(5).

The CCWIS regulations require updates of this information to confirm that the project meets CCWIS requirements and that project costs are appropriately allocated to benefiting programs.

Respondents: Title IV-E agencies under the Social Security Act.

Annual Burden Estimates
Instrument | Number of respondents | Number of responses per respondent | Average burden hours per response | Annual burden hours
Automated Function List § 1355.52(i)(2) | 55 | 1 | 10 | 550
Data Quality Plan § 1355.52(d)(5) | 55 | 1 | 40 | 2,200

Estimated Total Annual Burden Hours: 2,750.

Authority: 42 U.S.C. 620 et seq., 42 U.S.C. 670 et seq., 42 U.S.C. 1301 and 1302.

Mary B. Jones,
ACF/OPRE Certifying Officer.

[FR Doc. 2019-14596 Filed 7-8-19; 8:45 am]

BILLING CODE 4184-25-P